DEPARTMENT OF AGRICULTURE

Rural Utilities Service

[DOCKET #: RUS-24-ELECTRIC-0032]

Notice of Extension of the Application Deadline for Section 313A Guarantees for Bonds and Notes Issued for Utility Infrastructure Purposes for Fiscal Year 2025

AGENCY: Rural Utilities Service, USDA.

ACTION: Notice.

SUMMARY: The Rural Utilities Service (RUS or the Agency), a Rural Development agency of the United States Department of Agriculture (USDA), is announcing the extension and reopening of the Guarantees for Bonds and Notes Issued for Utility Infrastructure Purposes Program (the 313A Program) for Fiscal Year (FY) 2025 application window through January 31, 2025.

DATES: The application period for the funding opportunity published October 25, 2024 at 89 FR 85148 is reopened. Completed applications must be electronically received by RUS no later than 5 p.m. eastern time (ET) on January 31, 2025. Applicants intending to submit applications must have their applications received by the closing deadline.

ADDRESSES: Completed applications must be submitted electronically to Amy McWilliams, Branch Chief, Policy and Outreach Branch, Office of Customer Service and Technical Assistance, Electric Program, RUS at amy.mcwilliams@usda.gov.

FOR FURTHER INFORMATION CONTACT: Amy McWilliams, Branch Chief, Policy and Outreach Branch, Office of Customer Service and Technical Assistance, Electric Program, Rural Utilities Service, USDA, 1400 Independence Avenue SW, Mail Stop 1560, Room 4121-South, Washington, DC 20250-1560, by email at amy.mcwilliams@usda.gov, or call (202) 205-8663.

SUPPLEMENTARY INFORMATION:

Background

The 313A Program guarantees loans to selected applicants and the proceeds of those loans are to be used for the purpose of making utility infrastructure loans and for refinancing bonds or notes issued for such purposes to a borrower that has at any time received, or is eligible to receive, a loan under the Rural Electrification Act of 1936, as amended. The FY 2025 funding opportunity for the 313A Program was announced by a Notice of Funding Opportunity (NOFO) published in the Federal Register on October 25, 2024, at 89 FR 85148. Applicants should refer to this NOFO for all details on this funding opportunity.

With this notice, RUS is reopening the December 24, 2024, application deadline and extending it until 5 p.m. ET on January 31, 2025.

Andrew Berke,
Administrator, Rural Utilities Service, USDA Rural Development.

[FR Doc. 2024-31668 Filed 1-3-25; 8:45 am]

BILLING CODE 3410-15-P